DEPARTMENT OF THE TREASURY

Internal Revenue Service

Open Meeting of Citizen Advocacy Panel, Pacific-Northwest District

AGENCY: Internal Revenue Service (IRS), Treasury.

ACTION: Notice.

SUMMARY: An open meeting of the Pacific-Northwest Citizen Advocacy Panel will be held in Olympia, Washington.

DATES: The meeting will be held Friday, November 17, 2000 and Saturday, November 18, 2000.

FOR FURTHER INFORMATION CONTACT: Judi Nicholas at 1-888-912-1227 or 206-220-6096.

SUPPLEMENTARY INFORMATION: Notice is hereby given pursuant to Section 10(a)(2) of the Federal Advisory Committee Act, 5 U.S.C. App. (1988) that an open meeting of the Citizen Advocacy Panel will be held Friday, November 17, 2000, 8:30 a.m. to 4:30 p.m. at the John L. O'Brien Bldg, Capitol Campus, Olympia, Washington 98501 and Saturday, November 18, 2000, 9:00 a.m. to Noon at the Phoenix Inn, Phoenix Room, 415 Capitol Way N, Olympia, Washington 98501. The public is invited to make oral comments. Individual comments will be limited to 10 minutes. If you would like to have the CAP consider a written statement, please call 1-888-912-1227 or 206-220-6096, or write Judi Nicholas, CAP Office, 915 2nd Avenue, Room 442, Seattle, WA 98174. Due to limited conference space, notification of intent to attend the meeting must be made with Judi Nicholas. Ms. Nicholas can be reached at 1-888-912-1227 or 206-220-6096.

The Agenda will include the following: Various IRS issue updates.

Note: Last minute changes to the agenda are possible and could prevent effective advance notice.

Dated: October 5, 2000.
M. Cathy Vanhorn,
Director, CAP, Communications & Liaison, Taxpayer Advocate Service.

[FR Doc. 00-26206 Filed 10-11-00; 8:45 am]

BILLING CODE 4830-01-P